CONSUMER PRODUCT SAFETY COMMISSION

16 CFR Part 1218

[Docket No. CPSC-2010-0028]

Safety Standard for Bassinets and Cradles

AGENCY: Consumer Product Safety Commission.

ACTION: Direct final rule.

SUMMARY: In 2013, the U.S. Consumer Product Safety Commission (CPSC) published a consumer product safety standard for bassinets and cradles under section 104 of the Consumer Product Safety Improvement Act of 2008 (CPSIA). The standard incorporated by reference ASTM F2194-13, Standard Consumer Safety Specification for Bassinets and Cradles, with modifications to make the standard more stringent. The CPSIA sets forth a process for updating mandatory standards for durable infant or toddler products that are based on a voluntary standard, when a voluntary standards organization revises the standard. Consistent with the CPSIA update process, this direct final rule updates the mandatory standard for bassinets and cradles to incorporate by reference ASTM's 2025 version of the voluntary standard.

DATES: The rule is effective on February 21, 2026, unless the Commission receives a significant adverse comment by January 12, 2026. If the Commission receives such a comment, it will publish a document in the Federal Register, withdrawing this direct final rule before its effective date. The incorporation by reference of certain material listed in this rule is approved by the Director of the Federal Register as of February 21, 2026.

ADDRESSES: You can submit comments, identified by Docket No. CPSC-2010-0028, by any of the following methods:

Electronic Submissions: Submit electronic comments to the Federal eRulemaking Portal at: https://www.regulations.gov. Follow the instructions for submitting comments. CPSC typically does not accept comments submitted by electronic mail (email), except as described below. CPSC encourages you to submit electronic comments by using the Federal eRulemaking Portal.

Mail/Hand Delivery/Courier/Confidential Written Submissions: Submit comments by mail, hand delivery, or courier to: Office of the Secretary, Consumer Product Safety Commission, 4330 East West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit through this website: confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2010-0028, into the “Search” box, and follow the prompts.

FOR FURTHER INFORMATION CONTACT: Keysha Walker, Compliance Officer, U.S. Consumer Product Safety Commission, 4330 East West Highway, Bethesda, MD 20814; telephone: 301-504-6820; email: kwalker@cpsc.gov or Celestine Kish, Project Manager for Bassinet and Cradle Regulation, U.S. Consumer Product Safety Commission, 5 Research Place, Rockville, MD 20850; telephone: 301-987-2547; email: ckish@cpsc.gov.

SUPPLEMENTARY INFORMATION:

I. Background

A. Statutory Authority

Section 104(b)(1) of the CPSIA requires the Commission to assess the effectiveness of voluntary standards for durable infant or toddler products and adopt mandatory standards for these products. 15 U.S.C. 2056a(b)(1). The mandatory standard must be “substantially the same as” the voluntary standard, or it may be “more stringent than” the voluntary standard, if the Commission determines that more stringent requirements would further reduce the risk of injury associated with the product. Id.

Section 104(b)(4)(B) of the CPSIA specifies the process for updating the Commission's rules when a voluntary standards organization revises a standard that the Commission incorporated by reference under section 104(b)(1). First, the voluntary standards organization must notify the Commission of the revision. Once the Commission receives this notification, the Commission may reject or accept the revised standard. The Commission may reject the revised standard by notifying the voluntary standards organization, within 90 days of receiving notice of the revision, that it has determined that the revised standard does not improve the safety of the consumer product and that it is retaining the existing standard. If the Commission does not take this action to reject the revised standard, the revised voluntary standard will be considered a consumer product safety standard issued under section 9 of the Consumer Product Safety Act (15 U.S.C. 2058), effective 180 days after the Commission received notification of the revision or on a later date specified by the Commission in the Federal Register. 15 U.S.C. 2056a(b)(4)(B).

B. Safety Standard for Bassinets and Cradles

Under section 104(b)(1) of the CPSIA, the Commission adopted a mandatory rule for bassinets and cradles, codified in 16 CFR part 1218, “Safety Standard for Bassinets and Cradles.” The rule incorporated by reference ASTM F2194-13, Standard Consumer Safety Specification for Bassinets and Cradles, with modifications to make the standard more stringent. 78 FR 63019 (Oct. 23, 2013). At the time the Commission published the final rule, ASTM F2194-13 was the current version of the voluntary standard.

Since CPSC promulgated a final rule for bassinets and cradles in October 2013, which incorporated by reference ASTM F2194-13 with modifications, ASTM published five revisions to ASTM F2194. However, CPSC was not notified until the fifth revision, ASTM F2194-22ε¹. The staff briefing package in response to the ASTM F2194-22ε¹ notification provides a detailed discussion of all the changes to the ASTM standard from the mandatory standard for bassinets and cradles, part 1218.¹

¹ Available at: https://www.cpsc.gov/s3fs-public/ASTMs-Notice-of-a-Revised-Voluntary-Standard-for-Bassinets-and-Cradles.pdf?VersionId=x73F5OmeW4AJujWJEq8.kBZ28aTFLb2x.

Pursuant to the procedure outlined for revised voluntary standards in section 104(b)(4) of the CPSIA, 15 U.S.C. 2056a(b)(4), on September 23, 2022, the Commission determined that ASTM F2194-22ε¹ did not improve the safety of the consumer products covered by that standard. Therefore, ASTM F2194-13 (with modifications described in 16 CFR 1218) remains the mandatory standard. After the Commission's rejection of ASTM F2194-22ε¹, staff continued to work with the ASTM F15.18 Bassinets and Cradles Subcommittee and the ASTM F15.18 Bassinet Elevated Surface and Data Task Group (Task Group) to revise the performance requirements for bassinets/cradles to set acceptable baseline safe sleep requirements for products covered by the standard.

On August 1, 2025, ASTM approved and on August 12, 2025, published a new version (ASTM F2194-25) of the safety standard for bassinets and cradles. The revised voluntary standard includes performance requirements and test methods, as well as requirements for warning labels and instructions, to address hazards to infants. On August 25, 2025, ASTM notified CPSC of the newest revision to ASTM F2194. On September 10, 2025, the Commission provided notice in the Federal Register of the availability of the revised standard and sought comment on the effect of the revisions on the safety standard for bassinets and cradles. 90 FR 43581. CPSC received four comments.

Although the notice of availability requested comments solely on the revised voluntary 2025 standard (ASTM F2194-25), three of the four comments instead are fully or partially related to a previous notice of proposed rulemaking for bassinets and cradles that CPSC published in April 2024. 89 FR 27246. The comment period for that rulemaking closed on June 17, 2024, and comments relating to that rulemaking are out of scope of this direct final rule. Therefore, those comments will not be addressed here. One comment expressed support for accepting ASTM F2194-25 as the mandatory standard referenced in 16 part CFR 1218. One comment pointed out an inaccuracy in the electrical requirements of the standard. Staff appreciates this comment and assesses that this issue can be corrected through the ASTM process in a future revision to the standard and it is not a reduction in safety that would prevent the revised standard from becoming mandatory. One commenter asserted that a side-by-side comparison of the regulation and the new ASTM standard was not provided, making it difficult to evaluate the changes. Staff assesses that such a comparison was not required and notes that ASTM made available a read-only copy of the existing, incorporated standard (ASTM F2194-13), as well as ASTM F2194-16ε¹ (which is essentially the same as CPSC's mandatory standard), and the revised standard (ASTM F2194-25). The rest of the issues raised by that commenter were out of scope of this direct final rule.

As discussed below, based on staff's review of ASTM F2194-25 and the public comments received, the Commission will allow the revised voluntary standard to become the mandatory standard. Accordingly, by operation of law under section 104(b)(4)(B) of the CPSIA, ASTM F2194-25 will become the mandatory consumer product safety standard for bassinets and cradles on February 21, 2026. 15 U.S.C. 2056a(b)(4)(B). This direct final rule updates 16 CFR part 1218 to incorporate by reference the revised voluntary standard, ASTM F2194-25.

II. Revisions to ASTM F2194

ASTM F2194-25 includes several additions and revisions, including new definitions, new performance requirements and test methods, clarifications to existing requirements, as well as editorial revisions that do not alter substantive requirements in the standard or impact safety. The Commission considers the revisions in ASTM F2194-25 discussed below to be an improvement to the safety of bassinets and cradles because the standard now includes: aftermarket mattresses within scope; new performance requirements regarding height, stability, rigidity, and electrically- and battery-operated product safety; and warnings and instruction improvements.

A. Scope and Definitions

ASTM F2194-25 includes a new discussion in section 3.1.4.1 with the “bassinet/cradle accessory” definition that clarifies that such an accessory includes “a bassinet/cradle that may have hand-holds, handle(s), or grip openings and is intended to carry an occupant whose torso is completely supported by the product.” This improves safety by adding clarity for users to identify what components or products are subject to the requirements for bassinet/cradle accessories under the standard.

ASTM F2194-25 adds aftermarket bassinet mattresses to the scope and includes a corresponding new definition for the term “aftermarket mattress,” which means “a mattress sold or distributed separately for a bassinet or cradle, that is intended to replace the original equipment manufacturer (OEM) mattress.” (Sections 1.3.1.1, 3.1.1, 6.16, 8.6.7). This definition does not include replacement mattresses provided or sold by the OEM that are equivalent with respect to dimensions and specifications to the mattress that was provided with the bassinet or cradle. Aftermarket bassinet mattresses could pose entrapment, suffocation, or fall hazards if they do not meet the same requirements as OEM mattresses, and their safety is not addressed in the current regulation. Therefore, this expansion to the scope of the standard is an improvement in safety.

A new definition of the term “intended use orientation,” (section 3.1.9) meaning “the bassinet bed orientation . . . with respect to the base/stand, as recommended by the manufacturer for intended use,” has been added to the standard.

A new definition of the term “mattress,” (section 3.1.11) meaning a “pad with a fabric, vinyl, or other material case filled with resilient material (such as cotton, foam, fiberfill, etc.) used as or on the floor of the unit,” which is not currently defined in part 1218, has been added to the standard.

These new definitions clarify for users how to read and understand the standard and are therefore improvements in safety.

B. Performance and Testing Requirements

ASTM F2194-25 replaces the word “pad” with “mattress” throughout the performance and testing requirements. This change is a terminology update and does not impact the safety of any requirements in ASTM F2194.

ASTM F2194-25 also adds three new performance requirements under the header in section 6.12 Bassinet Structural Elements that are not in part 1218. Bassinets must meet the structural elements requirement in one of two options. The first option is for bassinets to meet side wall integrity and occupant support requirements, as follows:

• 6.12.1.1 Side wall integrity—no side wall shall be less than 7.5 inches when loaded with a 23 pound vertical load and a 5 pound horizontal load; and

• 6.12.1.2 Occupant support—top surface of bassinet/cradle mattress or sleep surface support shall not deflect more than 1.5 inches when the infant hinged weight gauge is placed in the product.

The second option is for bassinets to meet section 6.12.2 Minimum Bassinet/Cradle Height:

• The lowest uncompressed bassinet/cradle top rail shall be at minimum 16 inches from the external floor supporting the unit.

These new requirements are an improvement in safety because they require all bassinets to maintain the 7.5 inches side height, regardless of design and material, and ensure the sleep surface is flat, to prevent falls and suffocation due to the bassinet tilting if a low-to-the-ground bassinet is placed on a soft surface. The height requirement also addresses fall hazards because it is intended to dissuade consumers from place the bassinet on an elevated surface.

In addition, ASTM F2194-25 requires that the head-to-toe sleep surface angle (section 6.13) not exceed 10 degrees; expands the requirement that the lateral sleep surface angle (section 6.14) be less than or equal to 7 degrees from rocking products to all bassinets/cradles; adds electrically or battery powered requirements (section 6.15) identical to requirements in other juvenile products; and adds performance requirements to ensure aftermarket bassinet mattresses (section 6.16) perform similarly to OEM mattresses.

The revised voluntary standard also includes the corresponding tests for the new performance requirements: the side wall integrity test (section 7.13), the occupant support test (section 7.14), the maximum sleep surface head-to-toe angle test (section 7.16), the lateral sleep surface angle weighted test (section 7.17), the lateral sleep surface angle low weight test (section 7.18), and the battery test (section 7.19).

These requirements are not in the current part 1218. These new performance and testing requirements are intended to address fall and suffocation hazards that arise from inadequate occupant containment, angled sleep surfaces, as well as electrical hazards. Therefore, they provide new requirements to address these hazards and thus are an improvement to safety.

C. Warnings and Instructions

The warning and instructions for ASTM F2194-25 are updated to reflect ASTM Ad Hoc Language that has been developed over the years since part 1218 was published in 2013. The Ad Hoc Language provides consistency across juvenile standards warning and labeling requirements that will bring part 1218 into agreement with warnings and labels for other juvenile products. F2194-25 also includes battery-operated product markings, aftermarket mattress product requirements, and updates to the instructional literature. The revised standard also provides visual examples of warning labels and instructional literature labels exhibiting stated requirements (FIG. 28, 29, FIG. 30, FIG. 31, and FIG. 32). In addition, the new warnings for batteries and aftermarket mattresses provide consumers with additional information that was not previously required. Accordingly, staff considers these revisions to the warnings and instructions to be an improvement to the safety of bassinets and cradles because the warnings and instructions are more visible and comprehensive, presenting uniformity of warnings to attract consumers' attention.

D. Other Revisions

ASTM F2194-25 also includes several minor additions and revisions that are editorial in nature, such as updates to section and figure numbers to reflect revised and new sections and figures and an updated Rationale section of the standard to move explanations from within the standard to the Rationale section. These revisions do not impact safety because they do not alter any substantive requirements in the standard.

III. Incorporation by Reference

Section 1218.2 of the direct final rule incorporates by reference ASTM F2194-25. The Office of the Federal Register (OFR) has regulations regarding incorporation by reference. 1 CFR part 51. Under these regulations, agencies must discuss, in the preamble to a final rule, ways in which the material the agency incorporates by reference is reasonably available to interested parties, and how interested parties can obtain the material. In addition, the preamble to the final rule must summarize the material. 1 CFR 51.5(b).

In accordance with the OFR regulations, section I. of this preamble summarizes the major provisions of ASTM F2194-25 that the Commission incorporates by reference into 16 CFR part 1218. The standard is reasonably available to interested parties in several ways. Until the direct final rule takes effect, a read-only copy of ASTM F2194-25 is available for viewing on ASTM's website at: https://www.astm.org/CPSC.htm. Once the rule takes effect, a read-only copy of the standard will be available for viewing on the ASTM website at: https://www.astm.org/READINGLIBRARY/. Additionally, interested parties can purchase a copy of ASTM F2194-25 from ASTM International, 100 Barr Harbor Drive, P.O. Box C700, West Conshohocken, PA 19428-2959 USA; phone: (610) 832-9585; www.astm.org. Finally, interested parties can schedule an appointment to inspect a copy of the standard at CPSC's Office of the Secretary, U.S. Consumer Product Safety Commission, 4330 East West Highway, Bethesda, MD 20814, telephone: (301) 504-7479; email: cpsc-os@cpsc.gov.

IV. Certification

Section 14(a) of the Consumer Product Safety Act (CPSA; 15 U.S.C. 2051-2089) requires manufacturers, including importers, of products subject to a consumer product safety rule under the CPSA, or to a similar rule, ban, standard, or regulation under any other act enforced by the Commission, to certify that the products comply with all applicable CPSC requirements. 15 U.S.C. 2063(a). Such certification must be based on a test of each product, or on a reasonable testing program, or, for children's products, on tests of a sufficient number of samples by a third party conformity assessment body accredited by CPSC to test according to the applicable requirements. As noted, standards issued under section 104(b)(1)(B) of the CPSIA are “consumer product safety standards.” Thus, they are subject to the testing and certification requirements of section 14 of the CPSA.

Because bassinets and cradles are children's products, a CPSC-accepted third party conformity assessment body must test samples of the products. Products subject to part 1218 also must comply with all other applicable CPSC requirements, such as the lead content requirements in section 101 of the CPSIA; ² the phthalates prohibitions in section 108 of the CPSIA ³ and 16 CFR part 1307; the tracking label requirements in section 14(a)(5) of the CPSA; ⁴ and the consumer registration form requirements in section 104(d) of the CPSIA.⁵ ASTM F2194-25 makes no changes that would impact any of these existing requirements.

² 15 U.S.C. 1278a.

³ 15 U.S.C. 2057c.

⁴ 15 U.S.C. 2063(a)(5).

⁵ 15 U.S.C. 2056a(d).

V. Notice of Requirements

In accordance with section 14(a)(3)(B)(iv) of the CPSIA, the Commission previously published a notice of requirements (NOR) for accreditation of third party conformity assessment bodies (third party labs) for testing bassinets and cradles, and codified the requirement at 16 CFR 1112.15(b)(33). 78 FR 63019 (Oct. 23, 2013). The NOR provided the criteria and process for CPSC to accept accreditation of third party conformity assessment bodies for testing bassinets and cradles to 16 CFR part 1218. The NORs for all mandatory standards for durable infant or toddler products are listed in the Commission's rule, “Requirements Pertaining to Third Party Conformity Assessment Bodies,” codified in 16 CFR part 1112.

ASTM F2194-25 includes new requirements for testing bassinets and cradles, including the infant hinged weight gauge, that is new to the bassinet standard but is not new to juvenile product testing. Accordingly, the revisions do not significantly change the way that third party conformity assessment bodies test these products for compliance with the safety standard for bassinets and cradles. Laboratories will begin testing to the new standard when ASTM F2194-25 goes into effect, and the existing accreditations that the Commission has accepted for testing to this standard will cover testing to the revised standard. Therefore, the Commission considers the existing CPSC-accepted laboratories for testing to ASTM F2194-13 to be capable of testing to ASTM F2194-25 as well. Accordingly, the existing NOR for this standard will remain in place, and CPSC-accepted third party conformity assessment bodies are expected to update the scope of the testing laboratories' accreditations to reflect the revised standard in the normal course of renewing their accreditations.

VI. Direct Final Rule Process

On September 10, 2025, the Commission provided notice in the Federal Register of the revision to the standard and requested comment on whether the revision improves the safety of bassinets and cradles covered by the standard. 90 FR 43581. CPSC received four comments. Now, the Commission is issuing this rule as a direct final rule. Although the Administrative Procedure Act (APA; 5 U.S.C. 551-559) generally requires agencies to provide notice of a rule and an opportunity for interested parties to comment on it, section 553 of the APA provides an exception when the agency “for good cause finds” that notice and comment are “impracticable, unnecessary, or contrary to the public interest.” Id. 553(b)(B). The Commission concludes that when it updates a reference to an ASTM standard that the Commission incorporated by reference under section 104(b) of the CPSIA, notice and comment are not necessary.

The purpose of this direct final rule is to update the reference in the Code of Federal Regulations (CFR) so that it reflects the version of the standard that takes effect by operation of law. This rule updates the reference in the CFR, but under the terms of the CPSIA, ASTM F2194-25 would take effect as the new CPSC standard for bassinets and cradles in the absence of any action by the Commission. Thus, public comments would not lead to substantive changes to the standard or to the effect of the revised standard as a consumer product safety rule under section 104(b) of the CPSIA. Under these circumstances, notice and comment are unnecessary.

In Recommendation 2024-6, the Administrative Conference of the United States (ACUS) endorses direct final rulemaking as an appropriate procedure to expedite rules that are unlikely to elicit any significant adverse comments. See 89 FR 106406 (Dec. 30, 2024). ACUS recommends that agencies use the direct final rule process when they act under the “unnecessary” prong of the good cause exemption in 5 U.S.C. 553(b)(4)(B). 89 FR 106406, 106409. ACUS also explains that notice and comment may be “unnecessary” when the agency lacks discretion regarding the substance of the rule. Id. at 106408. As noted, this rule updates a reference in the CFR to reflect a change that occurs by operation of law. Consistent with the ACUS recommendation, the Commission is publishing this rule as a direct final rule, because CPSC does not expect any significant adverse comments.

Unless CPSC receives a significant adverse comment within 30 days of this notification, the rule will become effective on February 21, 2026. In accordance with ACUS's recommendation, the Commission considers a significant adverse comment to be “one where the commenter explains why the rule would be inappropriate,” including an assertion that undermines “the rule's underlying premise or approach,” or a showing that the rule “would be ineffective or unacceptable without change.” 60 FR 43108, 43111. As noted, this rule updates a reference in the CFR to reflect a change that occurs by statute.

If the Commission receives a significant adverse comment, the Commission will withdraw this direct final rule. Depending on the comment and other circumstances, the Commission may then incorporate the adverse comment into a subsequent direct final rule or publish a notice of proposed rulemaking, providing an opportunity for public comment.

VII. Regulatory Flexibility Act

The Regulatory Flexibility Act (RFA; 5 U.S.C. 601-612) generally requires agencies to review proposed and final rules for their potential economic impact on small entities, including small businesses, and prepare regulatory flexibility analyses. 5 U.S.C. 603, 604. The RFA applies to any rule that is subject to notice and comment procedures under section 553 of the APA. Id. As discussed in section VII. of this preamble, the Commission has determined notice and comment are unnecessary for this rule. Therefore, the RFA does not apply. CPSC also notes the limited nature of this document, which merely updates the incorporation by reference to reflect the mandatory CPSC standard that takes effect under section 104 of the CPSIA by operation of law.

VIII. Paperwork Reduction Act

The current mandatory standard for bassinets and cradles includes requirements for marking, labeling, and instructional literature that constitute a “collection of information,” as defined in the Paperwork Reduction Act (PRA; 44 U.S.C. 3501-3521). The Commission took the steps required by the PRA for information collections when it promulgated 16 CFR part 1218, and the marking, labeling, and instructional literature for bassinets and cradles are currently approved under OMB Control Number 3041-0157. The revision does not affect the information collection requirements or approval related to the standard.

IX. Environmental Considerations

The Commission's regulations provide for a categorical exclusion from any requirement to prepare an environmental assessment or an environmental impact statement where they “have little or no potential for affecting the human environment.” 16 CFR 1021.5(c)(2). This rule falls within the categorical exclusion, so no environmental assessment or environmental impact statement is required.

X. Preemption

Section 26(a) of the CPSA provides that where a consumer product safety standard is in effect and applies to a product, no state or political subdivision of a state may either establish or continue in effect a requirement dealing with the same risk of injury unless the state requirement is identical to the Federal standard. 15 U.S.C. 2075(a). Section 26(c) of the CPSA also provides that states or political subdivisions of states may apply to CPSC for an exemption from this preemption under certain circumstances. Section 104(b) of the CPSIA deems rules issued under that provision “consumer product safety standards.” Therefore, once a rule issued under section 104 of the CPSIA takes effect, it will preempt in accordance with section 26(a) of the CPSA.

XI. Effective Date

Under the procedure set forth in section 104(b)(4)(B) of the CPSIA, when a voluntary standards organization revises a standard that the Commission adopted as a mandatory standard, the revision becomes the CPSC standard 180 days after notification to the Commission, unless the Commission determines that the revision does not improve the safety of the product, or the Commission sets a later date in the Federal Register. 15 U.S.C. 2056a(b)(4)(B). The Commission is taking neither of those actions with respect to the revised standard for bassinets and cradles. Therefore, ASTM F2194-25 automatically will take effect as the new mandatory standard for bassinets and cradles on February 21, 2026, 180 days after the Commission received notice of the revision. As a direct final rule, unless the Commission receives a significant adverse comment within 30 days of this notice, the rule will become effective on February 21, 2026.

XII. Congressional Review Act and Executive Order 12866

Pursuant to the Congressional Review Act (CRA) and Executive Order (E.O.) 12866, the Office of Management and Budget's Office of Information and Regulatory Affairs has determined that this rule does not qualify as a “major rule,” as defined in 5 U.S.C. 804(2), and is not a significant regulatory action as defined under section 2(f) of E.O. 12866. To comply with the CRA, CPSC will submit the required information to each House of Congress and the Comptroller General.

List of Subjects in 16 CFR Part 1218

Consumer protection, Imports, Incorporation by reference, Infants and children, Law enforcement, Safety.

For the reasons discussed in the preamble, the Commission amends 16 CFR chapter II as follows:

PART 1218—SAFETY STANDARD FOR BASSINETS AND CRADLES

1. The authority citation for part 1218 is revised to read as follows:

Authority: 15 U.S.C. 2056a.

2. Revise § 1218.1 to read as follows:

§ 1218.1 Scope.

This part establishes a consumer product safety standard for bassinets and cradles.

3. Revise § 1218.2 to read as follows:

§ 1218.2 Requirements for bassinets and cradles.

Each bassinet and cradle must comply with all applicable provisions of ASTM F2194-25. ASTM F2194-25, Standard Consumer Safety Specification for Bassinets and Cradles, approved August 1, 2025, which is incorporated by reference into this section with the approval of the Director of the Federal Register under 5 U.S.C. 552(a) and 1 CFR part 51. This incorporation by reference (IBR) material is available for inspection at the U.S. Consumer Product Safety Commission (CPSC) and at the National Archives and Records Administration (NARA). Contact CPSC at: the Office of the Secretary, U.S. Consumer Product Safety Commission, 4330 East West Highway, Bethesda, MD 20814; phone: (301) 504-7479; email: cpsc-os@cpsc.gov. For information on the availability of this material at NARA, visit www.archives.gov/federalregister/cfr/ibr-locations or email fr.inspection@nara.gov. A read-only copy of the standard is available for viewing on the ASTM website at https://www.astm.org/READINGLIBRARY/. You may obtain a copy from ASTM International, 100 Barr Harbor Drive, P.O. Box C700, West Conshohocken, PA 19428-2959; phone: (610) 832-9585; website: www.astm.org.

Alberta E. Mills,
Secretary, Consumer Product Safety Commission.

[FR Doc. 2025-22697 Filed 12-11-25; 8:45 am]

BILLING CODE 6355-01-P